DEPARTMENT OF LABOR

Occupational Safety and Health Administration

[Docket No. OSHA-2016-0005]

Preparations for the 44th Session of the UN Sub-Committee of Experts on the Globally Harmonized System of Classification and Labelling of Chemicals (UNSCEGHS)

AGENCY: Occupational Safety and Health Administration (OSHA), Labor.

ACTION: Notice of public meeting.

SUMMARY: This notice is to advise interested persons that OSHA will conduct a hybrid public meeting on June 21, 2023, in advance of the 44th session of the United Nations Sub-Committee of Experts on the Globally Harmonized System of Classification and Labelling of Chemicals (UNSCEGHS) to be held as an in-person meeting July 10-12, 2023, in Geneva, Switzerland. OSHA, along with the U.S. Interagency Globally Harmonized System of Classification and Labelling of Chemicals (GHS) Coordinating Group, plans to consider the comments and information gathered at this public meeting when developing the U.S. Government positions for the UNSCEGHS meeting.

DATES: The hybrid public meeting will take place on June 21, 2023. Specific information for the joint meeting will be posted when available on the OSHA website at https://www.osha.gov/hazcom/international#meeting-notice.

ADDRESSES: This meeting will be a hybrid meeting, meaning it will be held virtually and in person at the Department of Transportation (DOT) Headquarters Conference Center, 1200 New Jersey Avenue SE, Washington, DC 20590. The meeting will be held in the Oklahoma Room.

Written Comments: Interested parties may submit comments July 2, 2023, on the Working and Informal Papers for the 44th session of the UNSCEGHS to the docket established for International/Globally Harmonized System (GHS) efforts at: http://www.regulations.gov, Docket No. OSHA-2016-0005.

Registration to Attend and/or to Participate in the Public Meeting: The OSHA and PHMSA sessions will be open to the public on a first-come, first-served basis, as space is limited.

If you are going to attend in person you must register with DOT PHMSA. There will be a remote participation option. Please register for the meeting here: https://www.surveymonkey.com/r/G5KBH9J.

PHMSA's meeting will be held in person and virtually from the DOT Headquarters, West Building, Conference Center, 1200 New Jersey Avenue SE, Washington, DC in the Oklahoma Conference Room; 9:00 a.m.-12:00 p.m., ET.

TDG Remote Option, https://www.phmsa.dot.gov/international-program/international-program-overview or call in (audio only) at 509-931-1572, Phone Conference ID: 636 183 458#.

OSHA's meeting will be held in person and virtually from the DOT Headquarters, West Building, Conference Center, 1200 New Jersey Avenue SE, Washington, DC in the Oklahoma Conference Room; 1:00 p.m.-4:00 p.m., ET. GHS Remote Option, https://www.phmsa.dot.gov/international-program/international-program-overview or call in (audio only) 509-931-1572; Phone Conference ID: 611 167 51#.

Advanced meeting registration information will be posted on the PHMSA website listed below. DOT is committed to providing equal access to this meeting for all participants. If you need interpretation or alternative formats or services because of a disability, such as sign language or other ancillary aids, please contact the person listed in the FOR FURTHER INFORMATION CONTACT section.

Attendees may use the same form to pre-register for both sessions of the meeting. Failure to pre-register may delay your access into the DOT Headquarters conference call line. Conference call-in and “Teams meeting” capability will be provided for both meetings. Information on how to access the conference call and “Teams meeting” will be posted when available at: https://www.phmsa.dot.gov/international-program/international-program-overview under Upcoming Events. This information will also be posted on OSHA's Hazard Communication website on the international tab at: https://www.osha.gov/hazcom/international#meeting-notice.

FOR FURTHER INFORMATION CONTACT: At the Department of Transportation: Please contact Mr. Steven Webb or Mr. Aaron Wiener, Office of Hazardous Materials Safety, Department of Transportation, telephone: (202) 366-8553.

At the Department of Labor: Please contact Ms. Janet Carter, OSHA Directorate of Standards and Guidance, Department of Labor, telephone: (202) 693-2370, email carter.janet@dol.gov.

SUPPLEMENTARY INFORMATION: OSHA will conduct a hybrid (in-person and virtual) public meeting on June 21, 2023, to discuss proposals in preparation for the 44th session of the UNSCEGHS to be held as an in-person meeting July 10-12, 2023, in Geneva, Switzerland. The June 21st public meeting will occur jointly with the DOT PHMSA to discuss proposals in preparation for the 62nd session of the UNSCETDG to be held as an in-person meeting July 3-7, 2023. Advanced meeting registration information for each session will be posted on the PHMSA and OSHA websites.

For each of these meetings, OSHA and PHMSA will solicit public input on U.S. government positions regarding proposals submitted by member countries in advance of each meeting.

The OSHA Meeting

OSHA is hosting an open informal public meeting in advance of the 44th session of the UNSCEGHS which will represent the first meeting scheduled for the 2023-2024 biennium. Information on the work of the UNSCEGHS, including meeting agendas, working and informal papers, reports, and documents from previous sessions can be found on the United Nations Economic Commission for Europe (UNECE) Transport Division website located at: http://www.unece.org/trans/danger/publi/ghs/ghs_welcome_e.html.

The PHMSA Meeting

Additional information regarding the UNSCETDG and related matters can be found on PHMSA's website at: https://www.phmsa.dot.gov/international-program/international-program-overview.

Authority and Signature

James S. Frederick, Deputy Assistant Secretary of Labor for Occupational Safety and Health, U.S. Department of Labor, authorized the preparation of this notice under the authority granted by sections 4, 6, and 8 of the Occupational Safety and Health Act of 1970 (29 U.S.C. 653, 655, 657), and Secretary's Order 1-2012 (77 FR 3912), (Jan. 25, 2012).

Signed at Washington, DC, on May 17, 2023.
James S. Frederick,
Deputy Assistant Secretary of Labor for Occupational Safety and Health.

[FR Doc. 2023-10983 Filed 5-23-23; 8:45 am]

BILLING CODE 4510-26-P